DEPARTMENT OF HEALTH AND HUMAN SERVICES

National Institutes of Health

Center for Scientific Review; Amended Notice of Meeting

Notice is hereby given of a change in the meeting of the Center for Scientific Review Special Emphasis Panel, October 23, 2013, 10:00 a.m. to October 23, 2013, 05:00 p.m., National Institutes of Health, 6701 Rockledge Drive, Bethesda, MD 20892, which was published in the Federal Register on October 01, 2013, 78 FR 190 Pgs. 60294-60296.

The meeting will start on December 11, 2013 at 8:00 a.m. and end December 11, 2013 at 5:00 p.m. The meeting location remains the same. The meeting is closed to the public.

Dated: October 29, 2013.
Melanie J. Gray,
Program Analyst, Office of Federal Advisory Committee Policy.

[FR Doc. 2013-26154 Filed 11-1-13; 8:45 am]

BILLING CODE 4140-01-P